DEPARTMENT OF JUSTICE

[AAG/A Order No. 277-2002]

Privacy Act of 1974 as Amended by The Computer Matching and Privacy Protection Act of 1988

This notice is published in the Federal Register in accordance with the requirements of the Privacy Act, (5 U.S.C. 552a), as amended by the Computer Matching and Privacy Protection Act of 1988 (CMPPA) (Pub. L. 100-503) (5 U.S.C. 552a(e)(12)). The Immigration and Naturalization Service (INS), Department of Justice (the source agency), is participating in computer matching programs with the District of Columbia and the State agencies listed below (all designated as recipient agencies). These matching activities will permit the recipient agencies to confirm the immigration status of alien applicants for, or recipients of, Federal benefits assistance under the “Systematic Alien Verification for Entitlements (SAVE)” program as required by the Immigration Reform and Control Act (IRCA) of 1986 (Pub. L. 99-603).¹

¹ Effective July 1, 1997, IRCA was amended by the Personal Responsibility and Work Opportunity Reconciliation Act (PRWORA), Pubic Law 104-193, 110 Stat. 2168 (1996). The PRWORA amended IRCA by replacing the reference to “Aid to Families with Dependent Children” (AFDC), with a reference to its successor program, “Temporary Assistance for Needy Families” (TANF). As was the case with AFDC, states and the District of Columbia are required to verify through SAVE that an applicant or recipient is in an eligible alien status for TANF benefits. In addition, Section 840 of the PRWORA makes verification for eligibility under the Food Stamps program voluntary on the part of the State/District of Columbia agency rather than mandatory.

Specifically, the matching activities will permit the following eligibility determinations:

(1) The District of Columbia Department of Employment Services, New York State Department of Labor, New Jersey Department of Labor, Texas Workforce Commission, and Massachusetts Department of Employment and Training will be able to determine eligibility for unemployment compensation;

(2) The California Department of Social Services will be able to determine eligibility status of aliens applying for or receiving benefits under the TANF (“Temporary Assistance for Needy Families”) program, and upon the submission of favorable cost-benefit data to the Department of Justice (DOJ) Data Integrity Board, will also be able to determine eligibility status of non-TANF Food Stamp applicants and recipients;

(3) The California Department of Health Services will be able to determine eligibility status for the Medicaid program; and

(4) The Colorado Department of Human Services will be able to determine the eligibility status for the Medicaid, TANF, and the Food Stamps programs.

Section 121(c) of IRCA amends Section 1137 of the Social Security and other statutes to require agencies which administer the Federal entitlement benefit programs designated within IRCA as amended, to use the INS verification system to determine eligibility. Accordingly, through the use of user identification codes and passwords, authorized persons from these agencies may electronically access the database of an INS system of records entitled “Alien Status Verification Index, Justice/INS-009”. From its automated records system, any agency (named above) participating in these matching programs may enter electronically into the INS database the alien registration number of the applicant or recipient. This action will initiate a search of the INS database for a corresponding alien registration number. Where such number is located, the agency will receive electronically from the INS database the following data upon which to determine eligibility: alien registration number, last name, first name, date of birth, country of birth (not nationality), social security number (if available), date of entry, immigration status data, and employment eligibility data. In accordance with 5 U.S.C. 552a(p), such agencies will provide the alien applicant with 30 days notice and an opportunity to contest any adverse finding before final action is taken against that alien because of ineligible immigration status as established through the computer match.

The original effective date of the matching programs (with the exception of the matching agreement with Massachusetts Department of Employment and Training) was January 29, 1990, for which notice was published in the Federal Register on December 28, 1989 (54 FR 53382). The original effective date of the Massachusetts matching program was February 28, 1990, for which notice was published in the Federal Register on January 29, 1990 (55 FR 2890). The programs have continued to date under the authority of a series of new approvals as required by the CMPPA. The CMPPA provides that based upon approval by agency Data Integrity Boards of a new computer matching agreement, computer matching activities may be conducted for 18 months and, contingent upon specific conditions, may be similarly extended by the Board for an additional year without the necessity of a new agreement. The most recent 1-year extension for those programs listed in items (1) through (4) above will expire on August 31, 2002, except that the agreement with the Massachusetts Department of Employment and Training will expire on September 12, 2002. The DOJ's Data Integrity Board has approved new agreements to permit the above named computer matching programs to continue for another 18-month period from the expiration date or after the notification period (described below) is satisfied, whichever is later.

Matching activities under the new agreements will be effective 30 days after publication of this computer matching notice in the Federal Register, or 40 days after a report concerning the computer matching programs has been transmitted to the Office of Management and Budget (OMB) and transmitted to Congress along with a copy of the agreements, whichever is later.

The agreements (and matching activities) will continue for a period of 18 months from the effective date, unless, within 3 months prior to the expiration of the agreement, the Data Integrity Board approves a 1-year extension pursuant to 5 U.S.C. 552a(o)(2)(D).

In accordance with 5 U.S.C. 552a(o)(2)(A) and (r), the required report has been provided to the OMB, and to the Congress together with a copy of the agreements.

Inquiries may be addressed to Kathleen M. Riddle, Procurement Analyst, Management and Planning Staff, Justice Management Division, Department of Justice, Washington, DC 20530.

Dated: July 19, 2002.
Robert F. Diegelman,
Acting Assistant Attorney General for Administration.

[FR Doc. 02-18794 Filed 7-24-02; 8:45 am]

BILLING CODE 4410-10-P